DEPARTMENT OF ENERGY

Federal Energy Regulatory Commission

Combined Notice of Filings

Take notice that the Commission has received the following Natural Gas & Oil Pipeline Rate and Refund Report filings:

Filings Instituting Proceedings

Docket Numbers: PR23-53-000.

Applicants: Public Service Company of Colorado.

Description: § 284.123(g) Rate Filing: Gas Statement of Rates_5.1.23 to be effective 5/1/2023.

Filed Date: 5/26/23.

Accession Number: 20230526-5183.

Comment Date: 5 p.m. ET 6/16/23.

284.123(g) Protest: 5 p.m. ET 7/25/23.

Docket Numbers: PR23-54-000.

Applicants: Louisville Gas and Electric Company.

Description: § 284.123(g) Rate Filing: Revised Statement of Operating Conditions Exhibit A Statement of Rates to be effective 5/1/2023.

Filed Date: 5/30/23.

Accession Number: 20230530-5023.

Comment Date: 5 p.m. ET 6/20/23.

284.123(g) Protest: 5 p.m. ET 7/31/23.

Docket Numbers: RP23-794-000.

Applicants: Elba Express Company, L.L.C.

Description: Compliance filing: Annual Cashout True-Up 2023 to be effective N/A.

Filed Date: 5/26/23.

Accession Number: 20230526-5182.

Comment Date: 5 p.m. ET 6/7/23.

Docket Numbers: RP23-795-000.

Applicants: Colorado Interstate Gas Company, L.L.C.

Description: § 4(d) Rate Filing: CIG Qtly LUF Filing May 2023 to be effective 7/1/2023.

Filed Date: 5/30/23.

Accession Number: 20230530-5050.

Comment Date: 5 p.m. ET 6/12/23.

Docket Numbers: RP23-796-000.

Applicants: TransColorado Gas Transmission Company LLC.

Description: § 4(d) Rate Filing: TC Quarterly FL&U Update May 2023 to be effective 7/1/2023.

Filed Date: 5/30/23.

Accession Number: 20230530-5116.

Comment Date: 5 p.m. ET 6/12/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP23-241-002.

Applicants: Sea Robin Pipeline Company, LLC.

Description: Compliance filing: Motion Revised & Cancelled Tariff Records RP23-241-000 to be effective 6/1/2023.

Filed Date: 5/30/23.

Accession Number: 20230530-5106.

Comment Date: 5 p.m. ET 6/12/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 30, 2023.
Debbie-Anne A. Reese,
Deputy Secretary.

[FR Doc. 2023-11886 Filed 6-2-23; 8:45 am]

BILLING CODE 6717-01-P